DEPARTMENT OF THE INTERIOR

Fish and Wildlife Service

[Docket No. FWS-R6-ES-2014-0048; FXES11140600000-245-FF06E22000]

R-Project Transmission Line, Nebraska; Revised Proposed Habitat Conservation Plan for the American Burying Beetle and Draft Supplemental Environmental Impact Statement; Extension of Public Comment Period

AGENCY: Fish and Wildlife Service, Interior.

ACTION: Notice; extension of public comment period.

SUMMARY: We, the U.S. Fish and Wildlife Service (Service), announce that we are extending the comment period for the public to review the draft revised habitat conservation plan (HCP) and draft supplemental environmental impact statement (draft SEIS) associated with Nebraska Public Power District's application under the Endangered Species Act for a permit associated with incidental take of the American burying beetle (Nicrophorus americanus). Comments previously submitted, or provided at public meetings, need not be resubmitted, as they will be fully considered in preparing the final documents.

DATES: Submitting Comments: The comment period for the revised HCP and draft SEIS, notice of which published on February 9, 2024 (89 FR 9171), is extended by 30 days. Comments submitted online at https://www.regulations.gov/ must be received by 11:59 p.m. eastern time on May 9, 2024. Hardcopy comments must be received on or before May 9, 2024.

ADDRESSES:

Obtaining Documents: The draft SEIS and revised HCP, as well as any comments and other materials that we receive, will be available for public inspection online in Docket No. FWS-R6-ES-2014-0048 at https://www.regulations.gov. For information on accessing an on-demand video recording of the March 7, 2024, virtual public meeting, see https://www.fws.gov/project/r-project-transmission-line.

Submitting Comments: You may submit comments by one of the following methods:

• Online: https://www.regulations.gov. Follow the instructions for submitting comments to Docket No. FWS-R6-ES-2014-0048.

• U.S. Mail: Public Comments Processing, Attn: Docket No. FWS-R6-ES-2014-0048; U.S. Fish and Wildlife Service Headquarters, MS: PRB/3W; 5275 Leesburg Pike; Falls Church, VA 22041-3803.

FOR FURTHER INFORMATION CONTACT: Jeff Runge, by phone at (308) 382-6468 or by email at jeff_runge@fws.gov. Individuals in the United States who are deaf, deafblind, hard of hearing, or have a speech disability may dial 711 (TTY, TTD, or TeleBraille) to access telecommunications relay services. Individuals outside the United States should use the relay services offered within their country to make international calls to the point-of-contact in the United States.

SUPPLEMENTARY INFORMATION: On February 9, 2024 (89 FR 9171), we, the U.S. Fish and Wildlife Service (Service), announced the availability for public comment of a draft supplemental environmental impact statement (SEIS) pursuant to the requirements of the National Environmental Policy Act of 1969, as amended (NEPA; 42 U.S.C. 4321 et seq.), to evaluate an application for an incidental take permit (ITP) under section 10(a)(1)(B) of the Endangered Species Act of 1973, as amended (ESA; 16 U.S.C. 1531 et seq.) The Nebraska Public Power District (NPPD) applied for a 50-year permit associated with incidental take of the American burying beetle (Nicrophorus americanus; ABB) during construction, operation, and maintenance of a new transmission line in central Nebraska (known as the R-Project). In support of the application, NPPD submitted a revised HCP, which we also announced for public review. For more information, see https://www.fws.gov/project/r-project-transmission-line.

With this notice, we are extending the public comment period on the SEIS and HCP (see DATES and ADDRESSES). The notice of availability established a 60-day public comment period, ending April 9, 2024. We are extending this comment period until May 9, 2024.

Public Availability of Comments

You may submit your comments and materials by one of the methods listed in ADDRESSES. Before including your address, phone number, or other personal identifying information in your comment, you should be aware that your entire comment—including your personal identifying information—might be made publicly available at any time. While you can ask us in your comment to withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22 and 17.32) and NEPA (42 U.S.C. 4321 et seq.) and its implementing regulations (40 CFR 1506.6 and 43 CFR 46.305).

Marjorie Nelson,
Assistant Regional Director, Ecological Services, Mountain-Prairie Region.

[FR Doc. 2024-07231 Filed 4-4-24; 8:45 am]

BILLING CODE 4333-15-P